DEPARTMENT OF HEALTH AND HUMAN SERVICES

Centers for Medicare & Medicaid Services

[Document Identifiers: CMS-10052, CMS-10142, CMS-10311, CMS-10344, and CMS-R-244]

Agency Information Collection Activities: Submission for OMB Review; Comment Request

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments on the collection(s) of information must be received by the OMB desk officer by January 21, 2014.

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806 OR, Email: OIRA_submission@omb.eop.gov

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Extension without change of a currently approved collection; Title of Information Collection: Recognition of Pass-Through Payment for Additional (New) Categories of Devices Under the Outpatient Prospective Payment System and Supporting Regulations; Use: Interested parties such as hospitals, device manufacturers, pharmaceutical companies, and physicians apply for transitional pass-through payment for certain items used with services covered in the outpatient prospective payment system (PPS). After we receive all requested information, we evaluate the information to determine if the creation of an additional category of medical devices for transitional pass-through payments is justified. We may request additional information related to the proposed new device category, as needed. We advise the applicant of our decision, and update the outpatient PPS during its next scheduled quarterly payment update cycle to reflect any newly approved device categories. We list below the information that we require from all applicants. Form Number: CMS-10052 (OCN: 0938-0857); Frequency: Once; Affected Public: Private sector—Business or other for-profits; Number of Respondents: 10; Total Annual Responses: 10; Total Annual Hours: 160. (For policy questions regarding this collection contact Barry Levi at 410-786-4529.)

2. Type of Information Collection Request: Revision of a currently approved collection; Title of Information Collection: Bid Pricing Tool (BPT) for Medicare Advantage (MA) Plans and Prescription Drug Plans (PDP); Use: We require Medicare Advantage organizations (MAOs) and prescription drug plans (PDPs) to complete the BPT as part of the annual bidding process. During this process, organizations prepare their proposed actuarial bid pricing for the upcoming contract year and submit them to us for review and approval. The purpose of the BPT is to collect the actuarial pricing information for each plan. The BPT calculates the plan's bid, enrollee premiums, and payment rates. We publish beneficiary premium information using a variety of formats (www.medicare.gov, the Medicare & You Handbook, Summary of Benefits marketing information) for the purpose of beneficiary education and enrollment. Form Number: CMS-10142 (OCN-0938-0944); Frequency: Yearly; Affected Public: Private sector—Business or other for-profits and Not-for-profit institutions; Number of Respondents: 555; Total Annual Responses: 4,995; Total Annual Hours: 149,850. (For policy questions regarding this collection contact Rachel Shevland at 410-786-3026.)

3. Type of Information Collection Request: Extension of a currently approved collection; Title of Information Collection: Medicare Program—Home Health Prospective Payment System Rate Update for Calendar Year 2010: Physician Narrative Requirement and Supporting Regulation; Use: The conditions of participation and accompanying requirements specified in the regulations are used by federal or state surveyors as a basis for determining whether a home health agency qualifies for approval or re-approval under Medicare. The Physician's certification and recertification of each patient's need for skilled care services; homebound status and the physician's clinical justification for skilled nursing management and evaluation of the care plan specified in the regulations at 42 CFR 424.22 are to be used by contractors and by us when reviewing the patient's medical record as a basis for determining whether the patient is eligible for the Medicare home health benefit and whether the medical record meets the criteria for coverage and Medicare payment. We, along with the healthcare industry believe that the availability to the home health agency of the type of records and general content of records, which this regulation specifies, is standard medical practice, and is necessary in order to ensure the well-being and safety of patients and professional treatment accountability. Form Number: CMS-10311 (OCN: 0938-1083; Frequency: Occasionally; Affected Public: Private sector—Business or other for-profits and Not-for-profit institutions); Number of Respondents: 9,354; Total Annual Responses: 345,600; Total Annual Hours: 28,800. (For policy questions regarding this collection contact Randy Throndset at 410-786-0131.)

4. Type of Information Collection Request: Extension without change of a currently approved collection; Title of Information Collection: Elimination of Cost-Sharing for full benefit dual-eligible Individuals Receiving Home and Community-Based Services; Use: This provision eliminates Part D cost-sharing for full benefit dual-eligible beneficiaries who are receiving home and community based services. To implement this provision, states are required to identify the affected beneficiaries in their monthly Medicare Modernization Act Phase Down reports. Form Number: CMS-10344 (OCN: 0938-1127); Frequency: Monthly; Affected Public: Private sector—Business or other for-profits and Not-for-profit institutions; Number of Respondents: 51; Total Annual Responses: 612; Total Annual Hours: 612. (For policy questions regarding this collection contact Katherine Pokrzywa at 410-786-5530.)

5. Type of Information Collection Request: Extension of a currently approved collection; Title of Information Collection: Programs for All-inclusive Care of the Elderly (PACE) and Supporting Regulations; Use: The Program for All-inclusive Care of the Elderly (PACE) organizations must demonstrate their ability to provide quality community-based care for the frail elderly who meet their state's nursing home eligibility standards using capitated payments from Medicare and the state. The model of care includes as core services the provision of adult day health care and multidisciplinary team case management, through which access to and allocation of all health services is controlled. Physician, therapeutic, ancillary, and social support services are provided in the participant's residence or on-site at the adult day health center. The PACE programs must provide all Medicare and Medicaid covered services including hospital, nursing home, home health, and other specialized services. Financing of this model is accomplished through prospective capitation of both Medicare and Medicaid payments. The information collection requirements are necessary to ensure that only appropriate organizations are selected to become PACE organizations and that we have the information necessary to monitor the care provided to the frail, vulnerable population served. Form Number: CMS-R-244 (OCN: -0938-0790; Frequency: Once and occasionally; Affected Public: Private Sector—Not-for-profit institutions; Number of Respondents: 99; Total Annual Responses: 99; Total Annual Hours: 81,912. (For policy questions regarding this collection contact Anitra Johnson at 410-786-0609.)

Dated: December 17, 2013.
Martique Jones,
Deputy Director, Regulations Development Group, Office of Strategic Operations and Regulatory Affairs.

[FR Doc. 2013-30334 Filed 12-19-13; 8:45 am]

BILLING CODE 4120-01-P